FEDERAL EMERGENCY MANAGEMENT AGENCY

44 CFR Part 65

[Docket No. FEMA-D-7533]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has 90 days in which to request through the community that the Administrator reconsider the changes. The modified elevations may be changed during the 90-day period.

ADDRESSES: The modified base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street, SW., Washington, DC 20472, (202) 646-3461, or (email) mike.grimm@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4. National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and County | Location | Dates and name of newspaper where notice was published | Chief executive officer of community | Effective date of Pmodification | Community No.
Alabama: Madison | City of Madison | November 20, 2002; November 27, 2002; Madison County Record | The Honorable Jan Wells, Mayor of the City of Madison, 100 Hughes Road, Madison, Alabama 35758 | November 12, 2002 | 010308 D
Florida: Polk | Unincorporated Areas | October 16, 2002; October 23, 2002; The Ledger | Mr. Jim W. Keene, Polk County Manager, 330 West Church Street, P.O. Box 9005, Drawer CA01, Bartow, Florida 33831-9005 | January 22, 2003 | 120261 F
Massachusetts: Barnstable | Town of Falmouth | October 29, 2002; November 5, 2002; Cape Cod Times | Mr. Robert L. Whritenour, Jr., Falmouth Town Administrator, 59 Town Hall Square, Falmouth, Massachusetts 02540 | October 22, 2002 | 255211 F
Minnesota: Hennepin | City of Golden Valley | November 21, 2002; November 28, 2002; Sun-Post | The Honorable Linda Loomis, Mayor of the City of Golden Valley, Golden Valley City Hall, 7800 Golden Valley Road, Golden Valley, Minnesota 55427 | November 12, 2002 | 270162
Mississippi: Rankin | Unincorporated Areas | November 27, 2002; December 4, 2002; Rankin County News | Mr. Ken Martin, President of the Rankin County Board of Supervisors, 211 East Government Street, Brandon, Mississippi 39042 | November 20, 2002 | 280142 C
New Hampshire: Grafton | Town of Plymouth | November 14, 2002; The Record Enterprise | Mr. John Tucker, Chairman of the Town of Plymouth, Board of Selectmen, Plymouth Town Hall, 6 Post Office Square, Plymouth, Massachusetts 03264 | December 14, 2002 | 330072 C
New Jersey: Atlantic | City of Brigantine | November 29, 2002; December 6, 2002 Beachcomer News | Mr. George McDermott, Brigantine City Manager, Brigantine Muncipal Building, 1417 West Brigantine Avenue, Brigantine, New Jersey 08203 | November 20, 2002 | 345286 B
New York: Herkimer | Village of Herkimer | November 15, 2002; Evening Telegram | The Honorable Mark Ainsworth, Mayor of the Village of Herkimer, 120 Green Street, Herkimer, New York 13350 | May 5, 2003 | 360307 C
Pennsylvania: Lackawanna | Borough of Blakely | October 25, 2002; November 1, 2002; Scranton Times | The Honorable Robert Klinko, Mayor of the Borough of Blakely, 6262 Jenkins Street, Peckville, Pennsylvania 18452 | October 16, 2002 | 420525 A
Virginia: Fauquier | Unincorporated Areas | November 7, 2002; November 14, 2003; Fauquier Citizen | Mr. G. Robert Lee, Fauquier County Administrator, 40 Culpeper Street, Warrenton, Virginia 20186 | February 13, 2003 | 510055 A
Virginia: Fauquier | Unicorporated Areas | November 14, 2002; November 21, 2002; Fauquier Citizen | Mr. G. Robert Lee, Fauquier County Administrator, 40 Culpeper Street, Warrenton, Virginia 20816 | February 20, 2003 | 510055 A

(Catalog of Federal Domestic Assistance No. 83.100, “Flood Insurance.”)

Dated: December 31, 2002.
Anthony S. Lowe,
Administrator, Federal Insurance and Mitigation Administration.

[FR Doc. 03-608 Filed 1-10-03; 8:45 am]

BILLING CODE 6718-04-P